DEPARTMENT OF ENERGY

Federal Energy Regulatory Commission

[Docket No. RP01-52-000]

Southwest Gas Storage Company; Notice of Request for Exemption

October 18, 2000.

Take notice that on October 13, 2000, Southwest Gas Storage Company (Southwest) tendered for filing, in accordance with the Commission's Order Granting Clarification in Docket No. RM96-1-016 issued September 28, 2000, 92 FERC ¶ 61,266 (2000), a request for an exemption from the requirement to implement imbalance netting and trading on its system in conformance with section 284.12(c)(2)(ii) of the Commission's Regulations. Southwest's shippers do not incur imbalances and are not subject to imbalance penalties. Accordingly, there are no imbalances to net or trade on Southwest's system.

Southwest states that copies of this filing are being served on all affected customers and applicable state regulatory agencies.

Any person desiring to be heard or to protest said filing should file a motion to intervene or a protest with the Federal Energy Regulatory Commission, 888 First Street, NE., Washington, DC 20426, in accordance with sections 385.214 or 385.211 of the Commission's Rules and Regulations. All such motions or protests must be filed on or before October 25, 2000. Protests will be considered by the commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-27269 Filed 10-23-00; 8:45 am]

BILLING CODE 6717-01-M